POSTAL SERVICE

Sunshine Act Meetings

TIME AND DATE: October 3, at 1 p.m.; October 4, 2023, at 1 p.m.

PLACE: Alpharetta, GA.

MATTERS TO BE CONSIDERED:

Meeting of the Board of Governors

Tuesday, October 3, at 1 p.m.; Wednesday, October 4, 2023, at 1 p.m.

1. Strategic and Operational Items.

2. Financial and Personnel Items.

3. Administrative Items.

General Counsel Certification: The General Counsel of the United States Postal Service has certified that the meeting may be closed under the Government in the Sunshine Act.

CONTACT PERSON FOR MORE INFORMATION: Michael J. Elston, Secretary of the Board, U.S. Postal Service, 475 L'Enfant Plaza SW, Washington, DC 20260-1000; Telephone: (202) 268-4800.

Michael J. Elston,
Secretary.

[FR Doc. 2023-20564 Filed 9-19-23; 11:15 am]

BILLING CODE 7710-12-P